NUCLEAR REGULATORY COMMISSION

[Docket Nos. 50-266 and 50-301]

Wisconsin Electric Power Company, Point Beach Nuclear Plant, Units 1 and 2; Notice of Withdrawal of Application for Amendment to Facility Operating Licenses

The U.S. Nuclear Regulatory Commission (the Commission) has granted the request of Wisconsin Electric Power Company (the licensee) to withdraw its July 30, 1998, application for proposed amendments to Facility Operating License Nos. DPR-24 and DPR-27 for the Point Beach Nuclear Plant, Units 1 and 2, located in Two Rivers, Wisconsin.

The proposed amendment would have revised the Technical Specifications to more clearly define the requirements for service water system operability.

The Commission had previously issued a Notice of Consideration of Issuance of Amendment published in the Federal Register on December 30, 1998 (63 FR 71976). However, by letter dated December 21, 1999, the licensee withdrew the proposed change and submitted a new amendment request, which superceded the July 30, 1998, request.

For further details with respect to this action, see the application for amendment dated July 30, 1998, and the licensee's letter dated December 21, 1999, which withdrew the application for license amendment. The above documents are available for public inspection at the Commission's Public Document Room, the Gelman Building, 2120 L Street, NW., Washington, DC, and accessible electronically through the ADAMS Public Electronic Reading Room link at the NRC Web site (http://www.nrc.gov).

Dated at Rockville, Maryland, this 13th day of March 2000.
For the Nuclear Regulatory Commission.
Beth A. Wetzel,
Senior Project Manager, Section 1, Project Directorate III, Division of Licensing Project Management, Office of Nuclear Reactor Regulation.

[FR Doc. 00-6631 Filed 3-16-00; 8:45 am]

BILLING CODE 7590-01-P